DEPARTMENT OF HEALTH AND HUMAN SERVICES

Substance Abuse and Mental Health Services Administration (SAMHSA)

Notice of a Meeting

Pursuant to Public Law 92-463, notice is hereby given of a meeting of the Substance Abuse and Mental Health Services Administration (SAMHSA) National Advisory Council in May 2001.

The SAMHSA National Advisory Council meeting will be open and will include discussions related to SAMHSA's activities in the area of data, HIV/AIDS, and performance partnerships; follow up to the February 8-9, 2000 SAMHSA National Advisory Council Meeting; and a discussion on the SAMHSA Council and its seven workgroups.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: Thursday, May 24, 2001, 9:30 a.m. to 5 p.m. (Open).

Place: Gaithersburg Marriott Washingtonian Center (at Rio), 9751 Washingtonian Boulevard, Gaithersburg, Maryland 20878.

Contact: Toian Vaughn, Executive Secretary, 5600 Fishers Lane, Parklawn Building, Room 17-89, Rockville, MD 20857, Telephone: (301) 443-7016; FAX: (301) 443-1587 and e-mail: TVaughn@samhsa.gov.

This notice is being published less than 15 days prior to the meeting due to the urgent need to meet timing limitations imposed by the review and funding cycle.

Dated: May 9, 2001.
Toian Vaughn,
Committee Management Officer, SAMHSA.

[FR Doc. 01-12095 Filed 5-14-01; 8:45 am]

BILLING CODE 4162-20-P